DEPARTMENT OF THE INTERIOR

Bureau of Land Management

[CO-600-03-1010-BN-241A]

Notice of Public Meeting, Northwest Colorado Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM), Northwest Colorado Resource Advisory Council (RAC) will meet as indicated below.

The Northwest Colorado RAC meeting will be held July 2, 2003 at the Bureau of Land Management Office, located at 73544 Highway 64 in Meeker, Colorado.

The Northwest Colorado RAC meeting will begin at 9 a.m. and adjourn at approximately 4 p.m. Public comment periods at the meeting will be in the morning at 9:30 a.m. and in the afternoon, to start no later than 3 p.m.

DATES: The Northwest Colorado RAC meeting is July 2, 2003.

FOR FURTHER INFORMATION CONTACT: Larry J. Porter, RAC Coordinator, Bureau of Land Management, 2815 H Road, Grand Junction, Colorado 81506; Telephone (970) 244-3012.

SUPPLEMENTARY INFORMATION: The Northwest Colorado RAC advises the Secretary of the Interior, through the Bureau of Land Management, on a variety of planning and management issues associated with public land management in Colorado.

Purpose of the Northwest Colorado RAC July 2, 2003 meeting is to consider resource management related topics including; possible revision recommendations to the Northwest Colorado RAC Charter; and the Sustained Working Landscapes Policy initiative.

The RAC meeting is open to the public. The public may present written comments to the RAC. The RAC meeting will also have time, as identified above, allocated for hearing public comments. Depending on the number of persons wishing to comment and time available, the time for individual oral comments may be limited. Individuals planning to attend the meeting who need special assistance should contact the RAC Coordinator listed above.

Dated: May 20, 2003.
Larry Porter,
Acting Western Slope Center Manager.

[FR Doc. 03-13112 Filed 5-23-03; 8:45 am]

BILLING CODE 4310-JB-P